DEPARTMENT OF AGRICULTURE

Forest Service

Withdrawal of the Regional Guide for the Intermountain Region and the Transfer of Select Decisions Therein to Specific Forest Plans

AGENCY: Forest Service, USDA.

ACTION: Notice.

SUMMARY: The Regional Forester for the Intermountain Region of the USDA Forest Service is withdrawing the Regional Guide and transferring selected decisions therein to specific Forest Plans. The Regional Forester is transferring the direction related to maximum size openings for even-aged timber management to those Forests that did not specifically address this requirement in their Forest Plan or that address it by referencing the Regional Guide Direction. Current planning regulations direct that the Regional Forester must withdraw the Regional Guide within 1 year of November 9, 2000. When a Regional Guide is withdrawn, Forest Service policy mandates that the Regional Forester must identify the decisions in the Regional Guide that are to be transferred to a regional supplement to the Forest Service directive system or to one or more forest. This action complies with that direction. A review of the relevant Forest Plans indicates that the Humboldt, Sawtooth, Toiyabe and Uinta National Forests are affected.

DATES: This action is effective November 9, 2001.

FOR FURTHER INFORMATION CONTACT: Bob Davis, (801) 625-5275.

SUPPLEMENTARY INFORMATION: The current regulations governing land and resource management planning (36 CFR part 219) direct Regional Foresters to withdraw their Regional Guide within 1 year of November 9, 2000. In addition, when a Regional Guide is withdrawn, the Regional Forester must identify the decisions in the Regional Guide that are to be transferred to a regional supplement of the Forest Service directive system (36 CFR 200.4) or to one or more plans and give notice in the Federal Register of these actions. A review of the management direction contained in the Intermountain Regional Guide indicates that, except for one area, either direction is already incorporated into Forest Plans, is superceded by Forest Service directives or policy, or the direction is obsolete. The one specific area identified for retention and transfer is the direction for maximum size for created openings by even-aged timber harvest (page 3-21 of the Regional Guide). I have determined that this direction should be transferred to those Forests that did not explicitly address it in their Forest Plan or that address it by referencing the Regional Guide—the Humboldt, Sawtooth, Toiyabe and Uinta National Forests. This direction will be in effect until the Forest has completed revision of their Forest Plan. Transferring this direction continues the limitation on the size of harvest openings to 40-acres or less without a 60-day public review and Regional Forester approval that is currently in the Regional Guide and complies with 36 CFR 219.35(e).

Dated: November 5, 2001.
Jack A. Blackwell,
Regional Forester, Intermountain Region.

[FR Doc. 01-29436 Filed 11-26-01; 8:45 am]

BILLING CODE 3410-11-M